LEGAL SERVICES CORPORATION

Retrospective Review of Regulations

AGENCY: Legal Services Corporation.

ACTION: Request for information.

SUMMARY: The Legal Services Corporation (LSC) is requesting public input on its regulatory priorities in 2022 and future years. Although LSC makes its regulatory priorities available for public comment annually in April, LSC has not formally sought the public's views on its regulatory activities since 2007.

DATES: Comments due May 18, 2022.

Listening sessions, all conducted via Zoom, all times Eastern:

1. Thursday, March 3, 2022, 11:00 a.m.-1:00 p.m.

2. Monday, March 14, 2022 2:00 p.m.-4:00 p.m.

3. Tuesday, March 29, 2022, 3:00 p.m.-5:00 p.m.

4. Wednesday, April 13, 10:00 a.m.-12:00 p.m.

ADDRESSES: You may send comments by any of the following methods:

• Email: lscrulemaking@lsc.gov. Include “2022 Regulatory Review Comments” in the subject line of the message.

• Fax: 202-337-6519. Please send to the attention of Stefanie Davis, Senior Associate General Counsel, and include “2022 Regulatory Review Comments” on the cover page.

• Mail: Legal Services Corporation, ATTN: Stefanie Davis, Senior Associate General Counsel, 3333 K Street NW, Washington, DC 20007.

FOR FURTHER INFORMATION CONTACT: Stefanie Davis, Senior Associate General Counsel, Legal Services Corporation, 3333 K Street NW, Washington, DC 20007; (202) 295-1563 (phone); 202-337-6831 (fax); or sdavis@lsc.gov.

SUPPLEMENTARY INFORMATION: Listening Session Access Information: To participate in the listening sessions via Zoom, please follow the link or use the dial-in instructions below:

Link: https://lsc-gov.zoom.us/j/2464362303.

Meeting ID: 246 436 2303.

Find your local number: https://lsc-gov.zoom.us/u/a293EJE37.

Background: LSC last solicited input broadly on its Rulemaking Agenda in 2007 via an email to Executive Directors. In the intervening years, LSC has identified rulemaking priorities through a combination of:

• LSC Task Force reports;

• Comments from stakeholders, including grantees, the client board member community, LSC's Board of Directors, and the National Legal Aid and Defender Association;

• Audit and investigation reports issued by LSC's Office of the Inspector General;

• Statutory changes; and

• Discrete situations that indicated a need for rulemaking.

Since 2010, LSC has completed 17 separate rulemakings. These rulemakings have ranged from ones needed to reflect Congressional action, such as revisions to the Freedom of Information Act or the expansion of grantees' authority to represent defendants in Tribal criminal courts under the Tribal Law and Order Act of 2010, to complete overhauls of LSC's subgrant rule. LSC repealed one obsolete rule governing the creation and operation of state advisory councils. LSC also created two new rules, one modeled after the Federal government's Touhy rule establishing the process by which outside parties may request documents and testimony from LSC for litigation purposes, and one governing grantees' processes for awarding contracts and acquiring, using, and disposing of property with LSC funds.

Because more than ten years have elapsed since LSC last engaged its stakeholders in a comprehensive review of its rules, LSC Management believed that consulting with grantees, the Board, and other stakeholders in a more focused process will result in a new agenda that prioritizes changes aimed at reducing administrative burdens on grantee and LSC staff alike and improving the efficiency and effectiveness of grantees' operations and LSC's oversight activities.

Through this Notice, LSC is announcing opportunities for grantees, clients, other stakeholders, and the public to provide LSC with their views on three issues:

• Regulations that require clarification, modification, or revision;

• Regulations that are no longer needed and may be repealed; and

• Areas or topics for which new regulations may be needed or desirable.

Interested parties may submit their comments in writing to LSC via email, fax, or postal mail. Additionally, LSC will hold four listening sessions during which interested parties may join a Zoom call with LSC staff to provide their comments orally.

Authority: 42 U.S.C. 2996g(e).

Dated: February 14, 2022.
Stefanie Davis,
Senior Associate General Counsel.

[FR Doc. 2022-03445 Filed 2-16-22; 8:45 am]

BILLING CODE 7050-01-P